NATIONAL AERONAUTICS AND SPACE ADMINISTRATION

[Notice (04-033)]

NASA Advisory Council, Space Science Advisory Committee, Sun-Earth Connection Advisory Subcommittee Meeting

AGENCY: National Aeronautics and Space Administration (NASA).

ACTION: Notice of meeting.

SUMMARY: The National Aeronautics and Space Administration announces a forthcoming meeting of the NASA Advisory Council (NAC), Space Science Advisory Committee (SScAC), Sun-Earth Connection Advisory Subcommittee (SECAS).

DATES: Wednesday, March 10, 2004, 8:30 a.m. to 5:30 p.m., Thursday, March 11, 2004, 8:30 a.m. to 5 p.m., and Friday, March 12, 2004, 8:30 a.m. to Noon.

ADDRESSES: National Aeronautics and Space Administration, 300 E Street, SW., Room 9H40, Washington, DC 20546.

FOR FURTHER INFORMATION CONTACT: Dr. Barbara Giles, Code SS, National Aeronautics and Space Administration, Washington, DC 20546, (202) 358-1762, barbara.giles@nasa.gov.

SUPPLEMENTARY INFORMATION: The meeting will be open to the public up to the capacity of the room. The agenda for the meeting includes the following topics:

—Sun-Earth Connection Overview

—New Space Vision, Budget, Priorities

—Reports from Sun-Earth Connection Management Operations Working Group

—Living with a Star Program Update

—Sun-Earth Connection Roadmap/Strategic Plan

Attendees will be requested to sign a register and to comply with NASA security requirements, including the presentation of a valid picture ID, before receiving an access badge. Foreign nationals attending this meeting will be required to provide the following information: full name; gender; date/place of birth; citizenship; visa/green card information (number, type, expiration date); passport information (number, country, expiration date); employer/affiliation information (name of institution, address, country, phone); title/position of attendee. To expedite admittance, attendees can provide identifying information in advance by contacting Barbara Giles via e-mail at Barbara.giles@nasa.gov or by telephone at (202) 358-1762. It is imperative that the meeting be held on these dates to accommodate the scheduling priorities of the key participants.

Michael F. O'Brien,
Assistant Administrator for External Relations, National Aeronautics and Space Administration.

[FR Doc. 04-4411 Filed 2-27-04; 8:45 am]

BILLING CODE 7510-01-P